DEPARTMENT OF ENERGY

Federal Energy Regulatory Commission

Combined Notice of Filings

Take notice that the Commission has received the following Natural Gas Pipeline Rate and Refund Report filings:

Filings Instituting Proceedings

Docket Numbers: RP12-58-000.

Applicants: Natural Gas Pipeline Company of America LLC.

Description: Natural Gas Pipeline Company of America LLC submits tariff filing per 154.204: Negotiated Rate Filing—Virginia Power to be effective 11/1/2011.

Filed Date: 10/26/2011.

Accession Number: 20111026-5066.

Comment Date: 5 p.m. Eastern Time on Monday, November 07, 2011.

Docket Numbers: RP12-59-000.

Applicants: Dominion Transmission, Inc.

Description: Dominion Transmission, Inc. submits tariff filing per 154.204: DTI—October 26, 2011 Negotiated Rate Agreement to be effective 11/1/2011.

Filed Date: 10/26/2011.

Accession Number: 20111026-5067.

Comment Date: 5 p.m. Eastern Time on Monday, November 07, 2011.

Docket Numbers: RP12-60-000.

Applicants: Kern River Gas Transmission Company.

Description: Kern River Gas Transmission Company submits tariff filing per 154.204: 2011 SoCal Nonconforming Agreement Vintage to be effective 11/1/2011.

Filed Date: 10/26/2011.

Accession Number: 20111026-5163.

Comment Date: 5 p.m. Eastern Time on Monday, November 07, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 27, 2011.
Nathaniel J. Davis, Sr.,
Deputy Secretary.

[FR Doc. 2011-28591 Filed 11-3-11; 8:45 am]

BILLING CODE 6717-01-P